DEPARTMENT OF ENERGY

Federal Energy Regulatory Commission

[Docket No. RP07-433-000]

Crossroads Pipeline Company; Notice of Technical Conference

June 27, 2007.

Take notice that the Commission will convene a technical conference in the above referenced proceeding on Tuesday, July 31, 2007, at 10 a.m. (EDT), in a room to be designated at the offices of the Federal Energy Regulatory Commission, 888 First Street, NE, Washington DC 20426.

The Commission's May 31, 2007, order¹ in this proceeding directed that a technical conference be held to address the issues raised by a May 1, 2007, filing of Crossroads Pipeline Company (Crossroads) to establish a retainage tracking mechanism and adjust its current retainage percentage.

¹ Crossroads Pipeline Company, 119 FERC ¶ 61,221 (2007).

The parties and the Commission Staff will have the opportunity to discuss all of the issues raised by the filing including, but not limited to, providing additional technical, engineering and operations support for its proposed transportation retainage percentage.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Lisa T. Long by phone at (202) 502-8691 or via e-mail at lisa.long@ferc.gov.

Kimberly D. Bose,
Secretary.

[FR Doc. E7-12937 Filed 7-3-07; 8:45 am]

BILLING CODE 6717-01-P